DEPARTMENT OF ENERGY

Federal Energy Regulatory Commission

[Docket No. RMI19-12-000]

Revisions to the Filing Process for Commission Forms; Notice Inviting Post-Technical Conference Comments

On March 24 through March 26, 2020, the Federal Energy Regulatory Commission (FERC or Commission) held a staff-led technical conference to discuss the draft FERC XBRL Taxonomy and related documents, as well as issues related to the transition to XBRL, including the implementation schedule.

All interested parties are invited to file post-technical conference comments on the topics discussed during the technical conference within 30 days from the date of this notice, i.e., on or before April 27, 2020.¹ After reviewing the comments, the Commission will issue an order on technical conference and adopting the final taxonomy, protocols, implementation guide and other documents, and establishing an implementation schedule.

¹ On March 19, 2020, the Commission issued a notice extending due dates for certain non-statutory items until May 1, 2020. Notice Granting Extension of Time, Docket No. AD20-11-000 (Mar. 19, 2020). However, we request that interested parties submit any comments on the technical conference held in this proceeding by April 27, 2020.

For more information about this notice, please contact Robert Hudson at Robert.Hudson@ferc.gov or (202) 502-6889, or email XBRLFormsRefresh@ferc.gov.

Dated: March 27, 2020.
Nathaniel J. Davis, Sr.,
Deputy Secretary.

[FR Doc. 2020-06884 Filed 4-1-20; 8:45 am]

BILLING CODE 6717-01-P